DEPARTMENT OF JUSTICE

United States Parole Commission

[8P04091]

Public Announcement Pursuant to the Government in the Sunshine Act (Pub. L. 94-409) [5 U.S.C. Section 552b]

Agency Holding Meeting: Department of Justice, United States Parole Commission.

Date and Time: 11 a.m., Thursday, July 16, 2009.

Place: U.S. Parole Commission, 5550 Friendship Boulevard, 4th Floor, Chevy Chase, Maryland 20815.

Status: Closed.

Matters Considered: The following matters will be considered during the closed portion of the Commission's Business Meeting:

Petition for reconsideration involving one original jurisdiction case pursuant to 28 CFR 2.27.

Approval or disapproval of a hearing examiner appointment.

Agency Contact: Thomas W. Hutchison, Chief of Staff, United States Parole Commission, (301) 492-5990.

Dated: July 7, 2009.
Rockne J. Chickinell,
General Counsel, U.S. Parole Commission.

[FR Doc. E9-16471 Filed 7-13-09; 8:45 am]

BILLING CODE 4410-31-M